ENVIRONMENTAL PROTECTION AGENCY

40 CFR Part 52

[UT-001-0021a, UT-001-0041a; FRL-7264-7]

Approval and Promulgation of Air Quality Implementation Plans; State of Utah; Vehicle Inspection and Maintenance Program; Utah County

AGENCY: Environmental Protection Agency (EPA).

ACTION: Direct final rule.

SUMMARY: EPA is taking direct final action approving a State Implementation Plan revision submitted by the Governor of Utah on December 7, 2001. This SIP submittal consists of a revision to Utah's rule R307-110-34 and section X, Vehicle Inspection and Maintenance (I/M) Program, Part D, Utah County. This SIP submittal satisfies one of the conditions of EPA's June 9, 1997 interim approval of Utah County's improved vehicle I/M program SIP. The other condition of EPA's interim approval was submittal of a demonstration that Utah County's decentralized I/M program can obtain the same emission reduction credits as a centralized I/M program. The State submitted such a demonstration on May 20, 1999. These submittals meet the requirements of section 348 of the National Highway System Designation Act, which allows States to claim additional credit for their decentralized I/M programs. In this case, Utah has demonstrated that Utah County's improved vehicle I/M program is entitled to 100% emissions reduction credit.

DATES: This direct final rule is effective on November 12, 2002 without further notice, unless the EPA receives adverse comments by October 15, 2002. If adverse comment is received, EPA will publish a timely withdrawal of the direct final rule in the Federal Register and inform the public the rule will not take effect.

ADDRESSES: Written comments may be mailed to Richard R. Long, Director, Air and Radiation Program, Mail code 8P-AR, 999 18th Street, Suite 300, Denver, Colorado, 80202. Copies of the documents relevant to this action are available for public inspection during normal business hours at the Air and Radiation Program, Environmental Protection Agency, Region VIII, 999 18th Street, Suite 300, Denver, Colorado, 80202 and copies of the Incorporation by Reference material are available at the U.S. Environmental Protection Agency, Air and Radiation Docket and Information Center, 1301 Constitution Avenue, NW., Room B108, Mail Code 6102T, Washington, DC 20460. Copies of the State documents relevant to this action are available for public inspection at the Utah Department of Environmental Quality, Division of Air Quality, 150 North 1950 West, Salt Lake City, Utah 84114.

FOR FURTHER INFORMATION CONTACT: Kerri Fiedler, EPA, Region VIII, (303) 312-6493.

SUPPLEMENTARY INFORMATION: Throughout this document, wherever “we,” “our,” or “us” is used, we mean EPA.

Table of Contents

I. Summary of EPA's Actions

II. Background

A. What Is Utah County's Improved Vehicle Inspection and Maintenance Program?

B. What Is I/M Program Credit?

C. Summary of EPA's June 9, 1997 Interim Final Rule

III. Evaluation of Utah County's NHSDA Equivalency Demonstration, Dated May 20, 1999

IV. Evaluation of Utah's Rule R307-110-34 and Section X, Vehicle Inspection and Maintenance Program, Part D, Utah County, Dated December 7, 2001

A. What Is the State's Process To Submit These Materials to EPA?

B. Evaluation of the State's Regulation

V. Final Action

VI. Administrative Requirements

I. Summary of EPA's Actions

We are taking direct final rulemaking action to approve a State Implementation Plan (SIP) revision submitted by the Governor of Utah on December 7, 2001. This SIP revision updates Utah's rule R307-110-34 and section X, Vehicle Inspection and Maintenance Program, Part D, Utah County, which satisfies one of the conditions of our June 9, 1997 interim approval of Utah County's improved vehicle I/M program, effective December 30, 1997 (62 FR 31349 and 63 FR 414). The other condition of our interim approval was submittal of a demonstration that Utah County's decentralized I/M program can obtain the same emission reduction credits as a centralized I/M program. Utah submitted this demonstration on May 20, 1999. These submittals meet the requirements of section 348 of the National Highway System Designation Act (NHSDA), which allows States to claim additional credit for their decentralized I/M programs. Utah County implements a test and repair I/M network and has demonstrated that its program achieves the same effectiveness as a test-only network and qualifies for full credit under the NHSDA.

II. Background

On November 6, 1991, we designated Utah County, Utah as a moderate non-attainment area for the carbon monoxide (CO) National Ambient Air Quality Standard (NAAQS) (56 FR 56694). Therefore, under section 182 of the Clean Air Act (Act) Utah County is required to implement an I/M program that is at least as effective as the Federal Basic I/M performance standard as specified in 40 CFR 51.352. Vehicle I/M programs are designed to reduce motor vehicle emissions by requiring vehicles to periodically pass a tailpipe emissions test or, depending on the model year of the vehicle, a check of the On-Board Diagnostic (OBD) system. Vehicle emissions are reduced when vehicles are repaired in order to pass these tests.

A. What Is Utah County's Improved Vehicle Inspection and Maintenance Program?

Utah County's improved vehicle I/M program is a basic, decentralized, test and repair network. The network consists of 140 permitted stations which test all 1968 and newer model year light duty vehicles, light duty trucks, and heavy duty trucks registered in Utah County. Motorcycles, electric powered vehicles, farm vehicles and equipment, construction equipment and other off-road vehicles are exempt from the I/M program. The program also includes technician training, I/M repair station certification, illegal registration investigation, repair effectiveness assessments, stringent waiver requirements, and remote sensing program implementation. Utah County also implements an anti-tampering component of the I/M program which entails checking the air pump systems, catalytic converters, exhaust gas re-circulation (EGR) valves, evaporative systems, positive pressure crankcase valves (PCV), and gas caps. Utah County's improved vehicle I/M program exceeds the Federal Basic I/M performance standard established in 40 CFR part 51, subpart S (“Inspection/Maintenance Program Requirements for CO non-attainment areas.”)

B. What Is I/M Program Credit?

When areas submit SIPs for our approval, we evaluate the effectiveness of the control measures and determine the amount of emissions that can be reduced upon full implementation of these measures. The more effective the I/M program, the more credit we would give a State towards achieving the emissions reductions needed to show attainment or maintenance.

We allow States to customize their I/M program and award different credits for different programs. Audits conducted by the General Accounting Office in 1991, revealed that decentralized programs (test and repair networks) were not as effective as centralized programs (test-only networks). This was due to higher tampering rates and the inherent conflict of interest in allowing garages to inspect their own emission repairs. When we released the mobile emissions model, Mobile5, we automatically discounted the amount of emissions reduction credit areas could claim for decentralized I/M programs by 50%. This 50% emission reduction credit is the default value in Mobile5.

C. Summary of EPA's June 9, 1997 Interim Final Rule

On June 9, 1997, we published in the Federal Register an interim final rule (62 FR 31349) approving Utah County's improved I/M program SIP revision, submitted March 15, 1996. This March 15, 1996 SIP revision was submitted under the authority of both the NHSDA and the Act. The effective date of this rule was later corrected to December 30, 1997 to be consistent with the Congressional Review Act (63 FR 414). The NHSDA included a key change to our previously developed I/M program requirements. Section 348 of the NHSDA allows I/M programs to bypass the 50% emissions reduction credit that is automatically given to decentralized I/M programs. Instead, on the basis of a good faith estimate by a State, the NHSDA allows for presumptive equivalency of such decentralized networks to the benchmark of centralized programs. Under section 348 of the NHSDA, we are required to grant interim approval to such decentralized programs, for an 18-month period, at the end of which each affected state must submit an evaluation of the actual effectiveness of the improved program.

Our June 9, 1997, interim final rule (62 FR 31349) established two requirements that Utah County would have to meet before we would grant full final approval of Utah County's improved I/M program:

(a) The submittal of an evaluation confirming that the program achieved the appropriate amount of program credit claimed by the State/County, and

(b) The submittal of final program regulations for our approval.

III. Evaluation of Utah County's NHSDA Equivalency Demonstration, Dated May 20, 1999

As noted above, pursuant to section 348 of the NHSDA, in March of 1996, Utah submitted a “good faith estimate” to support its claims for 100% emissions reduction credit for its decentralized test and repair program, when compared to a centralized test-only network. Section 348 of the NHSDA required Utah to submit a demonstration, based upon program data collected during the interim approval period, to support its good faith estimate and to demonstrate that the credits claimed for the decentralized program were appropriate. On May 20, 1999, Utah submitted a report to us entitled, “Evaluation of the Utah County Inspection/Maintenance Program,” that describes Utah's efforts to ensure that the program is operating as effectively as originally proposed.

Utah's evaluation compares Utah County's decentralized I/M program to Phoenix, Arizona's centralized I/M program. The first step was for Utah County to develop a correlation between a two-speed idle test, used in Utah County, and an I/M240 test, as implemented in Phoenix. Utah County procured 454 vehicles and subjected them to an I/M240 test in a laboratory from December 1998 through May 1999. Then, they took the two-speed idle test results from September 1997 through December 1998 from Utah County's database. Using “Development of a Proposed Procedure for Determining the Equivalency of Alternative Inspection and Maintenance Programs,” prepared for U.S. EPA, by Sierra Research, July 22, 1997, and a memo from Lee Cook, Regional and State Programs Division, Office of Mobile Sources, to I/M Stakeholders titled, “Guidance on Alternative I/M Program Evaluation methods,” Utah was able to develop a correlation between the two different tests and calculate an average emissions level. Next, Utah took a random, 2% sample of Phoenix's database, from 1997, converted the data to correct for altitude, fuel, and calendar year, and calculated an average emissions level. Utah was then able to calculate and compare the benefits of each I/M program using Mobile5.

The results of the analysis show that for light duty gasoline vehicles, the Utah County emission estimates are similar to Phoenix's emission estimates and the percent emission reductions are comparable. Utah's evaluation contains audit results of Utah County's program in Appendix A, “Utah County's Environmental Council of the States (ECOS)/State and Territorial Air Pollution Program Administrators (STAPPA) I/M Evaluation Factor Results.” ECOS/STAPPA conducted both overt and covert audits of Utah County's program. Overt, or administrative, audits consisted of verifying certifications, documentation and calibration of test equipment. The results of the overt audits showed that centralized networks faired better than decentralized networks. However, none of the infractions were of a serious nature. Types of problems encountered were analyzer malfunctions, printer ribbons needing to be changed, and missing emission manuals. All infractions were corrected upon written or verbal correction notices.

The covert, or undercover, audits consisted of setting the vehicle to fail beforehand by removing the catalytic converter, or tampering with the air system, and taking the vehicle to be tested. The test-only stations passed failing vehicles 31% of the time, whereas the test and repair stations passed failing vehicles or performed improper repairs only 16% of the time. ECOS/STAPPA concluded that based on these audits, there is no difference between the emissions inspections performed by either type of testing facility.

Utah County has demonstrated that its decentralized I/M program provides equal emission reductions when compared to a centralized test-only program. Utah submitted this analysis to us on May 20, 1999. We find Utah's analysis to be adequate and conclude that 100% credit is appropriate.¹

¹ In a July 26, 1999, letter to Ms. Ursula Trueman, we indicated our view that the Utah County evaluation was adequate and that we would be able to grant final approval of 100% emission reduction credit upon our final approval of a State-adopted SIP revision embodying the Utah County improved I/M program.

IV. Evaluation of Utah's Rule R307-110-34 and Section X, Vehicle Inspection and Maintenance Program, Part D, Utah County, Dated December 7, 2001

A. What Is the State's Process To Submit These Materials to EPA?

Section 110(k) of the Act addresses our action on submissions of revisions to a SIP. The Act requires States to observe certain procedural requirements in developing SIP revisions for submittal to us. Section 110(a)(2) of the Act requires that each SIP revision be adopted by the State, after reasonable notice and public hearing, and prior to the revision being submitted by a State to us.

The Utah Air Quality Board (UAQB) held a public hearing on June 21, 2001, to include Rule R307-110-34 and section X, Vehicle Inspection and Maintenance Program, Part D, Utah County in the Utah SIP. The UAQB adopted the revisions on August 1, 2001. This SIP revision became State effective on October 2, 2001, and was submitted by the Governor of Utah to us on December 7, 2001.

We have evaluated the Governor's submittal and have determined that the State met the requirements for reasonable notice and public hearing under section 110(a)(2) of the Act. As required by section 110(k)(1)(B) of the Act, we reviewed the SIP revision materials for conformance with the completeness criteria in 40 CFR part 51, appendix V and determined that the Governor's submittal was administratively and technically complete. We sent our completeness determination on February 20, 2002 (letter from Jack W. McGraw, Acting Regional Administrator, to Governor Michael O. Leavitt).

B. Evaluation of the State's Regulation

Utah's Rule R307-110-34 and section X, Vehicle Inspection and Maintenance Program, Part D, Utah County, consist of program improvements such as technician training, I/M repair station certification, illegal registration investigation, repair effectiveness assessments, stringent waiver requirements, and remote sensing program implementation. Furthermore, Utah County has improved their vehicle I/M program by changing to Utah 2000 analyzers for emissions, requiring emission inspectors to check the On-Board Diagnostic (OBD) systems in 1996 and newer vehicles, and downloading data daily from the emission analyzers. We have reviewed the State's submittal and find that it meets our requirements for a Basic I/M program as well as the requirements of section 348 of the NHSDA. We note that the Governor's December 7, 2001, submittal supercedes and replaces the version of Utah County's I/M program that we approved on March 8, 1989 (54 FR 9796). The Governor had submitted other revisions to R307-110-34 prior to December 7, 2001, that we never approved and note that the Governor's December 7, 2001, submittal also supersedes and replaces these other revisions to R307-110-34.

V. Final Action

We are approving the State of Utah's December 7, 2001 SIP submittal which consists of a revision to Utah's Rule R307-110-34 and section X, Vehicle Inspection and Maintenance Program, Part D, Utah County. We are also approving the State's May 20, 1999 demonstration that its decentralized I/M program is capable of achieving emissions reductions equivalent to a centralized I/M program. With our approval of these submittals, our June 9, 1997, interim approval of Utah County's improved vehicle I/M program becomes a full approval, and Utah County can claim 100% emissions reduction credit for their improved vehicle I/M program.

We are publishing this rule without prior proposal because we view this action as a noncontroversial amendment and anticipate no adverse comments. However, in the “Proposed Rules” section of today's Federal Register publication, we are publishing a separate document that will serve as the proposal to approve the SIP revision if adverse comments are filed. This rule will be effective November 12, 2002 without further notice unless the Agency receives adverse comments by October 15, 2002. If we receive adverse comments, we will publish a timely withdrawal of the direct final rule, in the Federal Register, informing the public that the rule will not take effect. We will address all public comments in a subsequent final rule based on the proposed rule. We will not institute a second comment period on this action. Any parties interested in commenting must do so at this time. If no such comments are received, the public is advised that this rule will be effective on November 12, 2002, and no further action will be taken on the proposed rule. Please note that if we receive adverse comment on an amendment, paragraph, or section of this rule and if that provision may be severed from the remainder of the rule, we may adopt as final those provisions of the rule that are not the subject of an adverse comment.

VI. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 12, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Reporting and recordkeeping requirements.

Dated: August 13, 2002.
Patricia D. Hull,
Acting Regional Administrator, Region VIII.

Part 52, Chapter I, title 40 of the Code of Federal Regulations is amended as follows:

PART 52—[AMENDED]

1. The authority citation for part 52 continues to read as follows:

Authority: 42 U.S.C. 7401-7671 et seq.

Subpart TT—Utah

2. Section 52.2320 is amended by adding paragraph (c)(50) to read as follows:

§ 52.2320 Identification of plan.

* * * * *

(c) * * *

(50) The Governor of Utah submitted Rule R307-110-34 and Section X, Vehicle Inspection and Maintenance Program, Part D, Utah County as part of the Utah State Implementation Plan on December 7, 2001.

(i) Incorporation by reference.

(A) Rule R307-110-34 and Section X, Vehicle Inspection and Maintenance Program, Part D, Utah County, including appendices 1 through 6, as adopted by the Utah Air Quality Board on August 1, 2001, effective October 2, 2001, published in the Utah State Bulletin issue of September 1, 2001.

(ii) Additional Material.

(A) Letter dated December 7, 2001 from Governor Michael O. Leavitt submitting Utah County's inspection and maintenance program state implementation plan revision.

(B) Evaluation of the Utah County Inspection/Maintenance Program, dated May 20, 1999.

3. Section 52.2348 is amended by redesignating the existing paragraph as paragraph (a). adding paragraph (b) to read as follows:

§ 52.2348 National Highway Systems Designation Act Motor Vehicle Inspection and Maintenance (I/M) Programs.

* * * * *

(b) On May 20, 1999, the State of Utah submitted an evaluation of the Utah County inspection and maintenance program. On December 7, 2001, the Governor of Utah submitted Rule R307-110-34 and Section X, Vehicle Inspection and Maintenance Program, Part D, Utah County. These submittals satisfy the interim approval requirements specified under section 348 of the National Highway Systems Designation Act of 1995 (62 FR 31351, 63 FR 414). Under the authority of section 110 of the Clean Air Act, EPA is removing the interim status of Utah County's improved inspection and maintenance program and granting Utah County full final approval of their improved inspection and maintenance program.

[FR Doc. 02-23084 Filed 9-11-02; 8:45 am]

BILLING CODE 6560-50-P